STATE JUSTICE INSTITUTE

SJI Board of Directors Meeting, Notice

AGENCY: State Justice Institute.

ACTION: Notice of meeting.

SUMMARY: The SJI Board of Directors will be meeting on Monday, June 29, 2015 at 1:00 p.m. The meeting will be held at the Supreme Court of Maine in Portland, Maine. The purpose of this meeting is to consider grant applications for the 3rd quarter of FY 2015, and other business. All portions of this meeting are open to the public.

ADDRESSES: Supreme Court of Maine, 205 Newbury Street, Portland, ME 04101.

FOR FURTHER INFORMATION CONTACT: Jonathan Mattiello, Executive Director, State Justice Institute, 11951 Freedom Drive, Suite 1020, Reston, VA 20190, 571-313-8843, contact@sji.gov.

Jonathan D. Mattiello,
Executive Director.

[FR Doc. 2015-11418 Filed 5-11-15; 8:45 am]

BILLING CODE P